DEPARTMENT OF COMMERCE

Foreign-Trade Zones Board

[B-16-2013]

Foreign-Trade Zone 124—Gramercy, LA; Application for Reorganization (Expansion of Service Area) Under Alternative Site Framework

An application has been submitted to the Foreign-Trade Zones (FTZ) Board (the Board) by the Port of South Louisiana, grantee of Foreign-Trade Zone 124, requesting authority to reorganize the zone to expand its service area under the alternative site framework (ASF) adopted by the Board (15 CFR 400.2(c)). The ASF is an option for grantees for the establishment or reorganization of zones and can permit significantly greater flexibility in the designation of new subzones or “usage-driven” FTZ sites for operators/users located within a grantee's “service area” in the context of the Board's standard 2,000-acre activation limit for a zone. The application was submitted pursuant to the Foreign-Trade Zones Act, as amended (19 U.S.C. 81a-81u) and the regulations of the Board (15 CFR part 400). It was formally docketed on February 21, 2013.

FTZ 124 was approved by the Board on December 20, 1985 (Board Order 319, 50 FR 53351, December 31,1985), and was reorganized under the ASF on January 31, 2012 (Board Order 1814, 77 FR 6059, February 7, 2012). The zone currently has a service area that includes St. Charles, St. John the Baptist, St. James, La Fourche and St. Mary Parishes, Louisiana.

The applicant is now requesting authority to expand the service area of the zone to include Tangipahoa Parish, as described in the application. If approved, the grantee would be able to serve sites throughout the expanded service area based on companies' needs for FTZ designation. The proposed expanded service area is adjacent to the Gramercy Customs and Border Protection port of entry.

In accordance with the Board's regulations, Camille Evans of the FTZ Staff is designated examiner to evaluate and analyze the facts and information presented in the application and case record and to report findings and recommendations to the Board.

Public comment is invited from interested parties. Submissions shall be addressed to the Board's Executive Secretary at the address below. The closing period for their receipt is April 29, 2013. Rebuttal comments in response to material submitted during the foregoing period may be submitted during the subsequent 15-day period to May 13, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: February 21, 2013.
Andrew McGilvray,
Executive Secretary.

[FR Doc. 2013-04560 Filed 2-26-13; 8:45 am]

BILLING CODE P